DEPARTMENT OF COMMERCE

National Oceanic and Atmospheric Administration

Evaluation of State Coastal Management Programs

AGENCY: Office for Coastal Management (OCM), National Ocean Service (NOS), National Oceanic and Atmospheric Administration (NOAA), Department of Commerce (DOC).

ACTION: Notice of request for comment.

SUMMARY: The National Oceanic and Atmospheric Administration (NOAA), Office for Coastal Management will hold a public meeting to solicit comments on the performance evaluation of the New Hampshire Coastal Management Program.

DATES: New Hampshire Coastal Management Program Evaluation: The public meeting will be held on September 20, 2016, and written comments must be received on or before September 30, 2016.

For specific dates, times, and locations of the public meetings, see SUPPLEMENTARY INFORMATION.

ADDRESSES: You may submit comments on the program or reserve NOAA intends to evaluate by any of the following methods:

Public Meeting and Oral Comments: A public meeting will be held in Portsmouth, New Hampshire. For the specific location, see SUPPLEMENTARY INFORMATION.

Written Comments: Please direct written comments to Pam Kylstra, Program Development Specialist, Learning Services Division, Office for Coastal Management, 2234 S. Hobson Avenue, Charleston, South Carolina 29405, or email comments Pam.Kylstra@noaa.gov.

FOR FURTHER INFORMATION CONTACT: Pam Kylstra, Program Development Specialist, Learning Services Division, Office for Coastal Management, 2234 S. Hobson Avenue, Charleston, South Carolina 29405, or email comments Pam.Kylstra@noaa.gov. Copies of the previous evaluation findings and related material (including past performance reports and notices prepared by NOAA's Office for Coastal Management) may be obtained upon written request by contacting the person identified under FOR FURTHER INFORMATION CONTACT. Copies of the most recent evaluation findings may also be downloaded or viewed on the Internet at http://coast.noaa.gov/czm/evaluations.

SUPPLEMENTARY INFORMATION: Section 312 of the Coastal Zone Management Act (CZMA) requires NOAA to conduct periodic evaluations of federally approved state and territorial coastal programs. The process includes one or more public meetings, consideration of written public comments and consultations with interested Federal, state, and local agencies and members of the public. During the evaluation, NOAA will consider the extent to which the state has met the national objectives, adhered to the management program approved by the Secretary of Commerce, and adhered to the terms of financial assistance under the CZMA. When the evaluation is completed, NOAA's Office for Coastal Management will place a notice in the Federal Register announcing the availability of the Final Evaluation Findings.

Specific information on the periodic evaluation of the state and territorial coastal program that is the subject of this notice is detailed below as follows:

New Hampshire Coastal Management Program Evaluation

You may participate or submit oral comments at the public meeting scheduled as follows:

Date: September 20, 2016.

Time: 1:00 p.m., local time.

Location: 222 International Drive, Suite 175, Pease Tradeport, Portsmouth, New Hampshire 03801.

Written public comments must be received on or before September 30, 2016.

Federal Domestic Assistance Catalog 11.419.

Coastal Zone Management Program Administration
Dated July 27, 2016.
John King,
Deputy Director, Office for Coastal Management, National Ocean Service, National Oceanic and Atmospheric Administration.

[FR Doc. 2016-18840 Filed 8-8-16; 8:45 am]

BILLING CODE 3510-08-P